DEPARTMENT OF THE INTERIOR

Bureau of Land Management

[CA-180]

Call for Nominations for the Bureau of Land Management's Central California Resources Advisory Council

AGENCY: Bureau of Land Management, Interior.

ACTION: Call for nominations.

SUMMARY: The Bureau of Land Management is soliciting nominations form the public to fill a vacated position on the Central California Resources Advisory Council and serve the remainder of a three-year term which expires in September, 2006. Council members provide advice and recommendations to the BLM on the management of public lands in Central California.

ADDRESSES: Nominations should be sent to the Field Manager, Bureau of Land Management, Folsom Field Office, 63 Natoma Street, Folsom, CA 95630.

FOR FURTHER INFORMATION CONTACT: Deane Swickard, Field Manger, Folsom Field Office, 63 Natoma Street, Folsom, CA 95630, (916) 985-4474.

SUPPLEMENTARY INFORMATION: The Central California Resources Advisory Council (RAC) is composed of twelve individuals who represent different interests and advise BLM officials on policies and programs concerning the management of public lands under the jurisdiction of the Folsom, Bishop, Hollister, and Bakersfield Field Offices. The Council meets in formal sessions two to four times a year at various locations. Council members serve without compensation except for reimbursement of travel expenditures incurred in the performance of their duties. Members serve three-year terms and may be renominated for reappointment for an additional three-year term.

The vacancy on the Central California RAC is in Category Two, which includes representatives of nationally or regionally recognized environmental organizations, archaeological and historic interests, dispersed recreation, and wild horse and burro groups.

Individuals may nominate themselves or others. Nominees must be residents of the region in which the RAC has jurisdiction. The BLM will evaluate nominees based on their education, training, and experience and their knowledge of the geographical resource decision making. The following must accompany nominations received in this call for nominations:

Letters of reference from represented interests or organizations;

A completed background information nomination form;

Any other information that speaks to the nominee's qualifications.

Nominations will be accepted for a 45-day period beginning the date this notice is published.

Dated: January 18, 2005.
D.K. Swickard,
Field Office Manager, Folsom Field Office.

[FR Doc. 05-4143 Filed 3-2-05; 8:45 am]

BILLING CODE 1610-DJ-M